DEPARTMENT OF COMMERCE

National Oceanic and Atmospheric Administration

50 CFR Part 648

[Docket No. 240419-0114; RTID 0648-XE030]

Magnuson-Stevens Fishery Conservation and Management Act Provisions; Fisheries of the Northeastern United States; 2024 and 2025 Summer Flounder and Scup, and 2024 Black Sea Bass Recreational Management Measures; Correction

AGENCY: National Marine Fisheries Service (NMFS), National Oceanic and Atmospheric Administration (NOAA), Commerce.

ACTION: Final rule; correction.

SUMMARY: This action corrects one error in the background section of the final rule to implement 2024 and 2025 summer flounder and scup, and 2024 black sea bass recreational management measures published in the Federal Register on April 26, 2024.

DATES: Effective on April 26, 2024.

FOR FURTHER INFORMATION CONTACT: Emily Keiley, Fishery Policy Analyst, 978-281-9116; Emily.Keiley@noaa.gov.

SUPPLEMENTARY INFORMATION: On April 26, 2024, we published a final rule for 2024 and 2025 summer flounder and scup, and 2024 black sea bass recreational management measures (89 FR 32374). That final rule included one error in the background section. On page 32374, the final rule states “the 2024 and 2025 Federal recreational scup management measures are a 10-inch (25.4-centimeters (cm)) minimum fish size, a 50-fish per person possession limit, and a year-round open season.” This is incorrect; the Federal scup possession limit is 40 fish per person as correctly stated in regulatory text.

Corrections

1. On page 32374, in the second column, the second paragraph under Background is corrected to read as follows:

“For scup, no changes to the Federal recreational management measures are being implemented. The 2024 and 2025 Federal recreational scup management measures are a 10-inch (25.4-centimeters (cm)) minimum fish size, a 40-fish per person possession limit, and a year-round open season.”

Dated: June 6, 2024.
Kelly Denit,
Acting Deputy Assistant Administrator for Regulatory Programs, National Marine Fisheries Service.

[FR Doc. 2024-12883 Filed 6-11-24; 8:45 am]

BILLING CODE 3510-22-P